FEDERAL COMMUNICATIONS COMMISSION

Privacy Act System of Records

AGENCY: Federal Communications Commission (FCC or Commission).

ACTION: Notice; one altered Privacy Act system of records; revision of one routine use; and addition of one new routine use.

SUMMARY: Pursuant to subsection (e)(4) of the Privacy Act of 1974, as amended (Privacy Act), 5 U.S.C. 552a, the FCC proposes to change the name of and alter one system of records, FCC/OSP-1, “Broadband Dead Zone Report and Consumer Broadband Test” (formerly FCC/OMD-27, “Broadband Unavailability Survey and Broadband Quality Test”). The altered system of records incorporates a change to the system's name. The FCC will also alter the system's location; the categories of individuals; the categories of records; the purposes for which the information is maintained; one routine use (and add a new routine use); the retrievability, access, safeguards, and retention and disposal procedures; the system manager and address; the record source categories; and make other edits and revisions as necessary to update the information and to comply with the requirements of the Privacy Act.

DATES: In accordance with 5 U.S.C. 552a(e)(4) and (e)(11) of the Privacy Act, any interested person may submit written comments concerning the alteration of this system of records on or before May 7, 2010. Pursuant to Appendix I, 4(e) of OMB Circular A-130, the FCC is asking the Administrator, Office of Information and Regulatory Affairs (OIRA), Office of Management and Budget (OMB), which has oversight responsibility under the Privacy Act to review system of records notices (SORN), to grant a waiver of the 40 day review period by OMB and Congress for this system of records. The FCC is requesting this waiver to permit the sharing of the information in this system with the National Telecommunications and Information Administration (NTIA) and the NTIA State Designated Entities for the 56 State Broadband Data and Development Grant Programs in order to save resources, time, avoid duplication, synthesize methodology, and gather accurate availability information. The proposed altered system of records will become effective on May 7, 2010 unless the FCC receives comments that require a contrary determination. The Commission will publish a document in the Federal Register notifying the public if any changes are necessary. As required by 5 U.S.C. 552a(r) of the Privacy Act, the FCC is submitting reports on this proposed altered system to OMB and Congress.

ADDRESSES: Address comments to Leslie F. Smith, Privacy Analyst, Performance Evaluation and Records Management (PERM), Federal Communications Commission (FCC), 445 12th Street, SW., Washington, DC 20554, or via the Internet at Leslie.Smith@fcc.gov.

FOR FURTHER INFORMATION CONTACT: Leslie F. Smith, Performance Evaluation and Records Management (PERM), Federal Communications Commission (FCC), 445 12th Street, SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed alteration of one system of records maintained by the FCC, revision of one routine use, and addition of one new routine use. The FCC previously gave complete notice of the system of records (FCC/OMD-27, “Broadband Unavailability Survey and Broadband Quality Test”) covered under this Notice by publication in the Federal Register on December 30, 2009 (74 FR 69098). This notice is a summary of the more detailed information about the proposed altered system of records, which may be viewed at the location given above in the “ADDRESSES” section. The purposes for altering FCC/OSP-1, “Broadband Dead Zone Report and Consumer Broadband Test” are to change the name of the system; to change the system location; to revise the categories of individuals; to revise the categories of records; to revise the purposes for which the information is maintained; to revise one routine use and add a new routine use; to revise the retrievability, access, safeguards, and retention and disposal procedures; to change the system manager and address; to change the record source categories; and to make other edits and revisions as necessary to update the information and to comply with the Privacy Act.

The FCC will achieve these purposes by altering this system of records with these changes:

Revision of the title of this system, for clarity and to note that this system has been moved from the Office of Managing Director (OMD) to the Office of Strategic Planning (OSP);

Revision of the language in the system location, for clarity and to note that that this system has been moved from the Office of Managing Director (OMD) to the Office of Strategic Planning (OSP);

Revision of the language regarding the categories of individuals in the system, for clarity and to add that the categories of individuals include individuals who participate in the Broadband Dead Zone Report voluntary survey and individuals who participate in the voluntary Consumer Broadband Test.

Revision of the language regarding the categories of records in the system, for clarity and to add that the categories of records include the street address, city, state, and zip code of each individual who selects to participate in the Broadband Dead Zone Report survey and each individual who participates in the Internet service Consumer Broadband Test; and that (A)dditionally the Consumer Broadband Test also collects the “Internet Protocol (IP) address” for each user who selects to participate;

Revision of the language regarding the purposes for which the information is maintained, for clarity and to add that the Commission uses the records in this system collected from the Broadband Dead Zone Report and the Consumer Broadband Test to determine the access of US residents to broadband—cable, and DSL, fiber, mobile wireless, and other broadband services, and to gather data on the quality of the broadband services being provided; that (T)he Consumer Broadband Test permits users to measure the quality of their fixed or mobile Internet broadband connection; that (I)ndividual street addresses and IP addresses will not be made public by the FCC, but aggregated or anonymized data from the database may be made public; that (A)dditionally, IP address may be shared with FCC software partners as part of the Consumer Broadband Test application; that (T)hese partners may publish the IP address and broadband performance data to the public (but the IP address will not be associated with a street address); and that (t)hese data may be used to inform implementation of the National Broadband Plan, the National Broadband Map and other proceedings related to the provisioning of broadband services;

Revision of Routine Use (7) to incorporate the change in the title of this system, Broadband Dead Zone Report and Consumer Broadband Test in this routine use.

Routine Use (7) allows that disclosure of the information collected through the Broadband Dead Zone Report and Consumer Broadband Test, with the exception of any personally identifiable information (PII), may be shared with public-public-private partnerships and with the Telecommunications Program of the United States Department of Agriculture (USDA) Rural Development Agency. This sharing regime is described in the Commission's Broadband Data Order of 2008 (FCC 08-89).

Addition of a new Routine Use (8) to allow information collected through the Broadband Dead Zone Report and the Consumer Broadband Test, including the personally identifiable information (PII), to be shared with the National Telecommunications and Information Administration (NTIA) and the 56 State Designated Entities for the State Broadband Data & Development Grant Program:

Routine Use (8) allows that disclosure of the information collected through the Broadband Dead Zone Report and Consumer Broadband Test, including the personally identifiable information (PII), may be shared with the National Telecommunications and Information Administration (NTIA) and the 56 State Designated Entities for the State Broadband Data & Development Grant Program, who are tasked with gathering broadband availability information that will be delivered to the FCC and NTIA for compilation into the National Broadband Map. Any PII shared with these entities will be disclosed under the rules of the agreement between NTIA and the state grantees governing the protection of sensitive, protected, or classified data collected pursuant to the grant program. The NTIA and the state grantees will not make any PII publicly available.

Revision of the language regarding the policies and practices for retrieving the records in this system, for clarity and to add a fourth response to the broadband Internet access question: (4) the individual's IP address; and to incorporate the change in the system's title so that (f)urthermore, the information may be retrieved and/or aggregated based upon other Consumer Broadband Test variables, such as broadband speed, latency, jitter, and packet loss, among other broadband quality variables;

Revision of the language regarding the policies and practices for accessing and safeguarding the records in this system, for clarity and to incorporate the change in the system's title to the Broadband Dead Zone Report or Consumer Broadband Test's database; and to add that (a)ccess to the information housed in the Dead Zone Report or the Consumer Broadband Test database, which is housed in the FCC's computer network databases, is restricted to authorized supervisors and staff in the Office of Strategic Planning (OSP) and the Information Technology Center's (ITC) Planning and Support Group, who maintain these computer databases. Additionally, staff of the National Broadband Map may be granted access to this data.

Revision of the language regarding the policies and practices for the retention and disposal of the records in this system, for clarity and to incorporate the change in the system's title thus, the information in the system is limited to electronic files, records, and data, which pertains to the Broadband Dead Zone Report, which includes: (1) The information obtained from individuals who participated in the Consumer Broadband Test;

Revision of the language regarding the system manager and address, notification, record access, and contesting record procedures, to incorporate the change in the system manager from the Office of Managing Director (OMD) to the Office of Strategic Planning (OSP); and that it is OSP to whom inquiries, notification procedures, record access procedures, and contesting records procedures should be addressed; and

Revision of the language regarding the record source categories, for clarity and to incorporate the change in the system's name, and that the sources for the information in this system are the Broadband Dead Zone Report survey respondents and the Consumer Broadband Test participants.

The Commission will use the records in FCC/OSP-1, “Broadband Dead Zone Report and Consumer Broadband Test,” which are collected from the Broadband Dead Zone Report and the Consumer Broadband Test to determine the access of US residents to broadband—cable, and DSL, fiber, mobile wireless, and other broadband services, and to gather data on the quality of the broadband services being provided. The Consumer Broadband Test permits users to measure the quality of their fixed or mobile Internet broadband connection. Individual street addresses will not be made public, but aggregated or anonymized data from the database may be made public. These data may be used to inform implementation of the National Broadband Plan, the National Broadband Map and other proceedings related to the provisioning of broadband services.

This notice meets the requirement of documenting the changes to this system of records that the FCC maintains, and provides the public, OMB, and Congress an opportunity to comment.

FCC/OSP-1

SYSTEM NAME:

Broadband Dead Zone Report and Consumer Broadband Test.

SECURITY CLASSIFICATION:

The FCC's Security Operations Center (SOC) has not assigned a security classification to this system of records.

SYSTEM LOCATION:

Office of Strategic Planning (OSP), Federal Communications Commission (FCC), 445 12th Street, SW., Washington, DC 20554.

CATEGORIES OF INDIVIDUALS COVERED BY THE SYSTEM:

The categories of individuals in this system include individuals who participate in the Broadband Dead Zone Report voluntary survey and individuals who participate in voluntary Consumer Broadband Test.

CATEGORIES OF RECORDS IN THE SYSTEM:

The categories of records in this system include the street address, city, state, zip code, and the Internet Protocol (IP) address of each individual who selects to participate in the Broadband Dead Zone Report survey and each individual who participates in the Internet service Consumer Broadband Test. Additionally, the Consumer Broadband Test also collects the “Internet Protocol (IP) address” of each user who selects to participate.

AUTHORITY FOR MAINTENANCE OF THE SYSTEM:

Broadband Data Improvement Act of 2008, Public Law 110-385, Stat 4096 section 103(c)(1); American Reinvestment and Recovery Act of 2009 (ARRA), Pub. L. 111-5, 123 Stat 115 (2009); and Communications Act, 47 U.S.C. 154(i).

PURPOSES:

The Commission uses the records in this system collected from the Broadband Dead Zone Report and the Consumer Broadband Test to determine the access of U.S. residents to broadband—cable, and DSL, fiber, mobile wireless, and other broadband services, and to gather data on the quality of the broadband services being provided. The Consumer Broadband Test permits users to measure the quality of their fixed or mobile Internet broadband connection. Individual street addresses and IP addresses will not be made public by the FCC, but aggregated or anonymized data from the database may be made public. Additionally, IP addresses may be shared with FCC software partners as part of the Consumer Broadband Test application. These partners may publish the IP address and broadband performance data to the public (but the IP address will not be associated with a street address). These data may be used to inform implementation of the National Broadband Plan, the National Broadband Map and other proceedings related to the provisioning of broadband services.

ROUTINE USES OF RECORDS MAINTAINED IN THE SYSTEM, INCLUDING CATEGORIES OF USERS AND THE PURPOSES OF SUCH USES:

Information about individuals in this system of records may routinely be disclosed under the following conditions:

1. Where there is an indication of a violation or potential violation of a statute, regulation, rule, or order, records from this system may be referred to the appropriate Federal, State, or local agency responsible for investigating or prosecuting a violation or for implementing or enforcing the statute, rule, regulation, or order.

2. A record on an individual in this system of records may be disclosed, where pertinent, in any legal proceeding to which the Commission is a party before a court or administrative body.

3. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

4. A record on an individual in this system of records may be disclosed to a Congressional office in response to an inquiry the individual has made to the Congressional office.

5. A record from this system of records may be disclosed to General Services Administration (GSA) and the National Archives and Records Administration (NARA) for the purpose of records management inspections conducted under authority of 44 U.S.C. 2904 and 2906. Such disclosure shall not be used to make a determination about individuals.

6. A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

7. The information collected through the Broadband Dead Zone Report and Consumer Broadband Test, with the exception of any personally identifiable information (PII), may be shared with public-private partnerships and with the Telecommunications Program of the United States Department of Agriculture (USDA) Rural Development Agency. This sharing regime is described in the Commission's Broadband Data Order of 2008 (FCC 08-89).

8. The information collected through the Broadband Dead Zone Report and Consumer Broadband Test, including the personally identifiable information (PII), may be shared with the National Telecommunications and Information Administration (NTIA) and the 56 State Designated Entities for the State Broadband Data & Development Grant Program, who are tasked with gathering broadband availability information that will be delivered to the FCC and NTIA for compilation into the National Broadband Map. Any PII shared with these entities will be disclosed under the rules of the agreement between NTIA and the state grantees governing the protection of sensitive, protected, or classified data collected pursuant to the grant program. The NTIA and the state grantees will not make any PII publicly available.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The information includes the electronic data and records that are stored in the FCC's computer network databases.

RETRIEVABILITY:

Information in the Broadband Dead Zone Report and Consumer Broadband Test system may be retrieved by the responses to the broadband Internet access questions: (1) Broadband access (yes/no); (2) broadband service availability (check boxes for types of broadband services available at an individual's home); (3) the individual's home address: Street address, city, state, and zip code; and (4) the individual's IP address. Furthermore, the information may be retreived and/or aggregated based upon other Consumer Broadband Test variables, such as broadband speed, latency, jitter, and packet loss, among other broadband quality variables.

SAFEGUARDS:

Access to the information in the Broadband Dead Zone Report or the Consumer Broadband Test database, which is housed in the FCC's computer network databases, is restricted to authorized supervisors and staff in the Office of Strategic Planning (OSP) and the Information Technology Center's (ITC) Planning and Support Group, who maintain these computer databases. Additionally, staff of the National Broadband Map may be granted access to this data. Other FCC employees and contractors may be granted access on a “need-to-know” basis. The FCC's computer network databases are protected by the FCC's security protocols, which include controlled access, passwords, and other security features. Information resident on the database servers is backed-up routinely onto magnetic media. Back-up tapes are stored on-site and at a secured, off-site location.

RETENTION AND DISPOSAL:

The information in this system is limited to electronic files, records, and data, which pertains to the Dead Zone Report, which includes:

(1) The information obtained from individuals who participated in the Consumer Information survey; and

(2) The information obtained from individuals who participated in the Consumer Broadband Test.

Until the National Archives and Records Administration (NARA) approves the retention and disposal schedule, these records will be treated as permanent.

SYSTEM MANAGER(S) AND ADDRESS(ES):

Address inquiries to the Office of Strategic Planning (OSP), Federal Communications Commission (FCC), 445 12th Street, SW., Washington, DC 20554.

NOTIFICATION PROCEDURE:

Address inquiries to the Office of Strategic Planning (OSP), Federal Communications Commission (FCC), 445 12th Street, SW., Washington, DC 20554.

RECORD ACCESS PROCEDURES:

Address inquiries to the Office of Strategic Planning (OSP), Federal Communications Commission (FCC), 445 12th Street, SW., Washington, DC 20554.

CONTESTING RECORD PROCEDURES:

Address inquiries to the Office of Strategic Planning (OSP), Federal Communications Commission (FCC), 445 12th Street, SW., Washington, DC 20554.

RECORD SOURCE CATEGORIES:

The sources for the information in this system are the Broadband Dead Zone Report survey respondents and Consumer Broadband Test participants.

EXEMPTIONS CLAIMED FOR THE SYSTEM:

None.

Federal Communications Commission.
Marlene H. Dortch,
Secretary.

[FR Doc. 2010-7988 Filed 4-6-10; 8:45 am]

BILLING CODE 6712-01-P